FEDERAL MINE SAFETY AND HEALTH REVIEW COMMISSION

Senior Executive Service; Performance Review Board

AGENCY: Federal Mine Safety and Health Review Commission.

ACTION: Notice.

SUMMARY: This notice announces the appointment of the members of the Performance Review Board (PRB) for the Federal Mine Safety and Health Review Commission. The PRB reviews the performance appraisals of career and non-career senior executives. The PRB makes recommendations regarding proposed performance appraisals, ratings, bonuses, pay adjustments, and other appropriate personnel actions.

DATES: Effective on February 18, 2020.

FOR FURTHER INFORMATION CONTACT: Lisa Boyd, Executive Director, Federal Mine Safety and Health Review Commission, (202) 434-9910.

SUPPLEMENTARY INFORMATION: This Notice announces the appointment of the following primary and alternate members to the Federal Mine Safety and Health Review Commission PRB:

Primary Members

David Copenhaver, Assistant Commissioner, Office of Shared Services, Bureau of the Fiscal Service

Jason Hill, Deputy Assistant Commissioner, Office of Shared Services, Bureau of the Fiscal Service

Marisa Schmader, Deputy Assistant Commissioner, Fiscal Accounting Support and Outreach, Bureau of the Fiscal Service

Alternate Members

None.

Authority: 5 U.S.C. 4313(c)(4).

Lisa M. Boyd,
Executive Director, Federal Mine Safety and Health Review Commission.

[FR Doc. 2020-03070 Filed 2-14-20; 8:45 am]

BILLING CODE 6735-01-P